GENERAL SERVICES ADMINISTRATION

41 CFR Part 102-75

[FMR Case 2024-02; Docket No. GSA-FMR-2024-0013; Sequence No. 1]

RIN 3090-AK80

Federal Management Regulation; Real Property Disposition Policies and Procedures

AGENCY: Office of Government-Wide Policy (OGP), U.S. General Services Administration (GSA)

ACTION: Proposed rule.

SUMMARY: The U.S. General Services Administration (GSA) proposes to amend subparts of the Federal Management Regulation (FMR) pertaining to real property disposition to align with the Federal Property and Administrative Services Act's disposition process and to address considerations and decisions needed at each stage of the disposal process. This proposed rule will add definitions, policy, and procedures where there were none previously. The rule will assist Federal landholding agencies with understanding their responsibilities when contemplating asset management and disposal actions and engaging with GSA using GSA's authority and their own authorities to meet their Federal real property goals and objectives.

DATES: Interested parties should submit written comments to the Regulatory Secretariat Division at the address shown below on or before February 21, 2025, to be considered in the formation of the final rule.

ADDRESSES: Submit comments in response to FMR case 2024-02 to: Regulations.gov at https://www.regulations.gov. Submit comments via the Federal eRulemaking portal by searching for “FMR Case 2024-02.” Select the link “Comment Now” that corresponds with FMR Case 2024-02. Follow the instructions provided at the “Comment Now” screen. Please include your name, company name (if any), and “FMR Case 2024-02” on your attached document. If your comment cannot be submitted using https://www.regulations.gov, call or email the points of contact in the FOR FURTHER INFORMATION CONTACT section of this document for alternate instructions.

Instructions: Please submit comments only and cite FMR Case 2024-02, in all correspondence related to this case. Comments received generally will be posted without change to https://www.regulations.gov, including any personal or business confidential information, or both. To confirm receipt of your comment(s), please check www.regulations.gov approximately two to three days after submission to verify posting.

FOR FURTHER INFORMATION CONTACT: Mr. Chris Coneeney, Director, Real Property Policy Division, Office of Government-wide Policy, at 202-208-2956 or chris.coneeney@gsa.gov, for clarification of content. For information pertaining to status or publication schedules, contact the Regulatory Secretariat Division at 202-501-4755 or GSARegSec@gsa.gov. Please cite FMR Case 2024-02. A summary of this proposed rule is available at https://www.regulations.gov.

SUPPLEMENTARY INFORMATION:

I. Background

GSA was founded in 1949 with the enactment of the Federal Property and Administrative Services Act.¹ Public Law 107-217, enacted August 21, 2002 (40 U.S.C. 101 and 501, et seq.), “Public Buildings, Property and Works,” effectively repealed the Federal Property and Administrative Services Act and re-codified its provisions without substantive change. Chapter 5 of the public law will be referred to as the “Property Act” throughout this regulation. The Federal Property and Administrative Services Act established GSA as the Federal Government's centralized management agency consolidating the functions of predecessor agencies (e.g., Federal Works Agency and the War Assets Administration) and authorities such as the 1935 Act and the Surplus Property Act of 1944, including the authority to be the Federal Government's real property disposal agent. Since that time, the Federal real estate landscape has dramatically changed and GSA has evolved from operating solely as the Property Act disposal agent to being a customer-focused Government-wide realty services provider.

¹ https://disposal.gsa.gov/s/act49.

Over the past fifteen years there has been a heightened focus on Federal real property asset management that can be attributed to both executive and legislative actions demonstrating a continuing desire for GSA to play a critical role in disposing of unneeded real property and increasing proceeds from the sale of such property.

On November 9, 2011, President Obama signed Executive Order (E.O.) 13589 “Promoting Efficient Spending” ² directing each agency to reduce its combined costs in a variety of administrative categories by not less than 20 percent in Fiscal Year (FY) 2013 from FY 2010 levels.

² https://obamawhitehouse.archives.gov/the-press-office/2011/11/09/executive-order-13589-promoting-efficient-spending.

To achieve these savings, many agencies identified and implemented creative and innovative practices to reduce costs and improve efficiencies in real estate. On May 11, 2012, the Office of Management and Budget (OMB) published Memorandum M-12, “Promoting Efficient Spending to Support Agency Operations,” ³ to describe a series of policies and practices for agencies to take to improve operations, increase efficiency, and cut unnecessary spending.

³ https://obamawhitehouse.archives.gov/sites/default/files/omb/memoranda/2012/m-12-12_0.pdf.

Subsequently, OMB published Memorandum No.2013-02 on March 14, 2013, “Implementation of OMB Memorandum M-12-12 Section 3: Freeze the Footprint,” ⁴ as guidance for the Freeze the Footprint (FTF) policy, which directed Chief Financial Officers (CFO) Act agencies to maintain the total size of their agency office and warehouse space to an FY 2012 baseline. FTF required agencies to freeze the growth in their office and warehouse inventory or offset any new acquisitions with concomitant reductions. Under the guidance, agencies developed and annually updated three-year plans to restrict the growth in their office and warehouse inventories. Agencies also developed internal controls to facilitate increased communication between agency CFO and Real Property Management offices. The coordinated planning and communication improved agencies' internal management of Federal real property assets. The FTF policy was in effect from FY 2012 through FY 2015. Federal agencies exceeded the FTF policy's objective by decreasing the Government-wide office and warehouse baseline by 24.7 million square feet.⁵

⁴ https://obamawhitehouse.archives.gov/sites/default/files/omb/financial/memos/implementation-of-freeze-the-footprint-guidance.pdf.

⁵ https://obamaadministration.archives.performance.gov/initiative/freeze-footprint.html.

After the FTF policy expired, the requirement for agencies to freeze their office and warehouse baselines to a set portfolio continued through the Reduce the Footprint (RTF) policy. The RTF policy was the successor to the FTF policy; it used FY 2015 data to set a new office and warehouse baseline for agencies to adhere to.

On March 25, 2015, OMB released the National Strategy for the Efficient Use of Real Property ⁶ and its companion policy, the Reduce the Footprint (RTF) policy.⁷ The National Strategy was a three-step framework to improve real property management aimed to freeze growth in the inventory, measure performance to identify opportunities for efficiency improvements through data driven decision-making, and ultimately reduce the size of the inventory by prioritizing actions to consolidate, co-locate, and dispose of properties. Over time, application of the National Strategy improved the utilization of Government owned and leased buildings, lowered the number of excess and underutilized properties, and improved the cost effectiveness and efficiency of the overall real property portfolio.

⁶ https://obamawhitehouse.archives.gov/sites/default/files/omb/financial/national-strategy-efficient-use-real-property.pdf.

⁷ https://obamawhitehouse.archives.gov/sites/default/files/omb/financial/memos/implementation-reduce-the-footprint.pdf.

To make progress under this strategy, OMB issued the RTF policy with Memorandum No. 2015-01, “Implementation of OMB Memorandum M-12-12 Section 3: Reduce the Footprint,” ⁸ on March 25, 2015. The RTF policy required agencies to submit annual Real Property Efficiency Plans (Plan) to OMB that—

⁸ https://obamawhitehouse.archives.gov/sites/default/files/omb/financial/memos/implementation-reduce-the-footprint.pdf.

(1) Set annual square foot reduction targets for Federal domestic buildings;

(2) Adopted an office space design standard to optimize Federal domestic office space usage; and

(3) Required agencies' office and warehouse portfolios to remain at or below their FY 2015 FTF baselines.

Under the RTF policy, OMB established a Government-wide policy to use property as efficiently as possible and to reduce agency portfolios through annual reduction targets. The RTF policy was an impetus for real property management transformation that provided value to taxpayers. By implementing this policy, in FY 2016 through FY 2020, the U.S. Government reduced its office and warehouse space by 8.2 million square feet, with an estimated annual cost avoidance of $130.7 million.⁹

⁹ https://www.performance.gov/real-property/real-property-metrics/.

On November 6, 2019, with the issuance of OMB Memorandum M-20-03, “Implementation of Agency-wide Real Property Capital Planning,” ¹⁰ CFO Act agencies are no longer required to submit annual Plans to OMB. Agencies are still required to set the office, warehouse, and owned property annual reduction targets, but these targets are incorporated into the agency capital plans supported by a brief narrative.

¹⁰ https://www.whitehouse.gov/wp-content/uploads/2019/11/M-20-03.pdf.

OMB Memorandum M-20-03 also provided heads of executive departments and agencies with capital planning requirements for real property, in accordance with the Federal Property Management Reform Act of 2016 (FPMRA), 40 U.S.C. 621, et seq., enacted on December 16, 2016.¹¹ The FPMRA established the Federal Real Property Council (FRPC) ¹² and charged it with ensuring implementation of an efficient and effective real property management strategy.

¹¹ https://www.govinfo.gov/content/pkg/PLAW-114publ318/pdf/PLAW-114publ318.pdf.

¹² https://www.performance.gov/real-property/.

In addition, in OMB Memorandum M-20-10, “Issuance of an Addendum to the National Strategy for the Efficient Use of Real Property,” ¹³ issued March 6, 2020, Action 6 states that the Government will establish and publish accountable annual performance metrics for all agencies.

¹³ https://www.whitehouse.gov/wp-content/uploads/2020/03/M-20-10.pdf.

To further improve the management of Federal real property, the Federal Assets Sale and Transfer Act of 2016 (FASTA) (Pub. L. 114-287) ¹⁴ was enacted on December 16, 2016, with subsequent amendments. FASTA requires that all executive branch Federal agencies, with certain exceptions, submit current data of all Federal civilian real properties owned, leased, or controlled by a Federal agency. Data is reported at the constructed asset level for each land, building and other structure that is owned, leased or otherwise managed by the agency.

¹⁴ https://www.congress.gov/114/plaws/publ287/PLAW-114publ287.pdf.

FASTA also requires OMB and GSA to identify opportunities for the Federal Government to reduce its inventory of civilian real property, more efficiently utilize existing properties, and reduce the cost for maintaining these properties.

GSA provides the Federal Government a center of expertise for Federal real property disposal by offering strategic asset management tools to landholding agencies to identify, prepare, and divest unneeded property.

II. Summary of Significant Changes

Section 102-75.5

GSA is adding this section to clarify and add to the definitions that apply to this part that are consistent with U.S. Code; as well as move the definitions to one section to increase the readability for the user. GSA is updating the definitions of the types of utilization. GSA is removing § 102-75.45 and replacing the term “not utilized” with “unutilized,” and adding the corresponding statutory reference. GSA is removing § 102-75.50 and adding the corresponding statutory reference. GSA is removing § 102-75.55 and no longer uses the term “not being put to optimum use.” GSA is adding the definition of “utilized” which is consistent with definitions used by Federal agencies in responding to the Federal Real Property Profile Management System.¹⁵

¹⁵ https://www.gsa.gov/policy-regulations/policy/real-property-policy-division-overview/asset-management/federal-real-property-profile-frpp.

Section 102-75.6

GSA is changing this section to more accurately describe the scope and coverage of the regulation. GSA is adding specific references to laws for clarity and defining the Property Act.

Section 102-75.7

GSA is moving § 102-75.296 to § 102-75.7.

Section 102-75.8

GSA is moving § 102-75.297 to § 102-75.8.

Section 102-75.9

GSA is moving § 102-75.298 to § 102-75.9.

Section 102-75.10

GSA is moving § 102-75.65 to § 102-75.10.

Section 102-75.11

GSA is moving § 102-75.70 to § 102-75.11.

Section 102-75.12

GSA is adding this section. GSA is removing any reference to “disposal agency” and replacing it with “GSA” since these regulations implement a primary authority of GSA. The term “GSA” also includes any agency with a delegation of authority from GSA applicable to these regulations.

Section 102-75.13

GSA is adding this section to state that severability applies to the part.

Section 102-75.15

GSA updated this section to clarify and provide more detailed information to include a comprehensive list of the disposal actions landholding agencies may take while operating under a GSA delegated authority.

Section 102-75.20

GSA updated this section to clarify and provide more detailed information about how Federal agencies with independent disposal authority may obtain disposal services from GSA through a Memorandum of Agreement or Reimbursable Work Authorization.

Section 102-75.40

GSA is adding this section to clarify and add to the definitions that apply to this part that are consistent with U.S. Code; as well as move the definitions to one section to increase the readability for the user. GSA is adding the definitions of “public domain land” and “withdrawn public domain land.”

Sections 102-75.50 Through 102-75.60

GSA is adding these sections to clarify and expand upon current §§ 102-75.100 and 102-75.105.

III. Regulatory Impact Analysis

During the first year after publication of the final rule, GSA will need to update the Real Property Disposal Customer Guide. GSA estimates this cost by multiplying the time required to review the regulations and guidance implementing the proposed rule by the estimated hourly compensation. GSA calculates the estimated hourly compensation using the U.S. Office of Personnel Management's 2024 General Schedule (GS) Rest of United States Locality Pay Table, a full fringe benefit cost factor of 36.25%, and an overhead cost factor of 12%.16 17 18 19

¹⁶ General Schedule (https://www.opm.gov/policy-data-oversight/pay-leave/salaries-wages/2024/general-schedule/).

¹⁷ Computing Hourly Rates of Pay Using the 2,087-Hour Divisor (https://www.opm.gov/policy-data-oversight/pay-leave/pay-administration/fact-sheets/computing-hourly-rates-of-pay-using-the-2087-hour-divisor/).

¹⁸ OMB Memo M-08-13, dated March 11, 2008 (https://www.whitehouse.gov/wp-content/uploads/legacy_drupal_files/omb/memoranda/2008/m08-13.pdf).

¹⁹ OMB Circular A-76 (https://georgewbush-whitehouse.archives.gov/omb/circulars/a076/a76_incl_tech_correction.html).

1. Government Costs

The Government must update the glossary in the Customer Guide to Real Property Disposal. GSA makes these assumptions based on historical familiarization and subject matter expert judgment. Below is a list of activities related to updating the glossary in the Real Property Disposal Customer Guide that GSA anticipates will occur. GSA estimates it will take 1 GSA data analyst on average, with a GS-9 step 5 with an average hourly rate of $48.28/hour, 12 hours in year 1 to update the glossary in the Real Property Disposal Customer Guide. Therefore, GSA estimates the total estimated cost for this part of the proposed rule to be $579 (= 1 × $48.28 GS-9 step 5 rate × 12 hours). GSA estimates it will take 5 GSA Senior Realty Specialists on average, with a GS-13 step 5 with an average hourly rate of $83.25/hour, 2 hours each in year 1 to review the glossary updates in the Real Property Disposal Customer Guide. Therefore, GSA estimates the total estimated cost of this part of the proposed rule to be $833 (= 5 × $83.25 GS-13 step 5 rate × 2 hours).

GSA estimates it will take 1 GSA Branch Chief on average, with a GS-14 step 5 with an average hourly rate of $98.38/hour, 2 hours in year 1 to review the glossary updates in the Real Property Disposal Customer Guide. Therefore, GSA estimates the total estimated cost of this part of the proposed rule to be $197 (= 1 × $98.38 GS-14 step 5 rate × 2 hours).

GSA estimates it will take 1 GSA Zonal Director on average, with a GS-15 step 5 with an average hourly rate of $115.72/hour, 1 hour in year 1 to review and approve the glossary updates in the Real Property Disposal Customer Guide. Therefore, GSA estimates the total estimated cost of this part of the proposed rule to be $116 (= 1 × $115.72 GS-15 step 5 rate × 1 hour).

GSA estimates it will take 1 GSA attorney on average, with an SES Level 3 with an average hourly rate of $144.91/hour, 4 hours in year 1 to review and approve the glossary updates in the Real Property Disposal Customer Guide. Therefore, GSA estimates the total estimated cost of this part of the proposed rule to be $580 (= 1 × $144.91 SES Level 3 rate × 4 hours).

GSA estimates it will take 1 GSA Assistant Commissioner on average, with an SES Level 3 with an average hourly rate of $144.91/hour, 1 hour in year 1 to review and approve the glossary updates in the Real Property Disposal Customer Guide. Therefore, GSA estimates the total estimated cost of this part of the proposed rule to be $145 (= 1 × $144.91 SES Level 3 rate × 1 hour).

2. Total Government Costs

GSA estimates the total estimated Government costs to be $2,449 for years 1 through 10. A breakdown of total estimated Government costs by year is provided in the table below.

Year | 1 | 2 | 3 | 4 | 5 | 6 | 7 | 8 | 9 | 10
Total Government Costs | $2,449 |  |  |  |  |  |  |  |  |

3. Total Overall Costs

The undiscounted estimated total overall cost over a 10-year period is $2,449, equal to the total estimated Government costs, above, as there is no direct cost to the public under this proposed rule. The following is a summary of the estimated costs calculated for a 10-year time horizon at a 2-percent discount rate:

Summary | Total costs
Present Value (2 percent) | $2,401
Annualized Costs (2 percent) | 267

4. Benefits

The regulations for real property disposition were last published in November 2005. There are numerous updates needed to improve the readability and clarity of the regulation. The proposed rule will add definitions, policies, and procedures where there were none previously. The clarity provided by this update will assist Federal landholding agencies with understanding their responsibilities when contemplating asset management and disposal actions and how to engage with GSA using GSA's authority and their own authorities to meet their Federal real property goals and objectives.

5. Analysis of the Alternative

The preferred process is laid out in the analysis above. However, GSA has analyzed an alternative to the preferred process below.

Alternative 1: GSA could decide to take no regulatory action. The Government would not incur the additional costs associated with this proposed rule; however, the regulation would not reflect current policy and best practices for real property disposition. As a result, GSA rejected this alternative.

IV. Executive Orders 12866, 13563, and 14904

E.O. 12866 (Regulatory Planning and Review) directs agencies to assess all costs and benefits of available regulatory alternatives and, if regulation is necessary, to select regulatory approaches that maximize net benefits (including potential economic, environmental, public health and safety effects, distributive impacts, and equity). E.O. 13563 (Improving Regulation and Regulatory Review) emphasizes the importance of quantifying both costs and benefits, of reducing costs, of harmonizing rules, and of promoting flexibility. E.O. 14094 (Modernizing Regulatory Review) amends section 3(f) of E.O. 12866 and supplements and reaffirms the principles, structures, and definitions governing contemporary regulatory review established in E.O. 12866 and E.O. 13563. OMB's Office of Information and Regulatory Affairs has determined that this proposed rule is a significant regulatory action and, therefore, it is subject to review under section 6(b) of E.O. 12866.

V. Regulatory Flexibility Act

GSA does not expect this proposed rule to have a significant economic impact on a substantial number of small entities within the meaning of the Regulatory Flexibility Act, 5 U.S.C. 601, et seq., because it applies to agency management or personnel. Therefore, an Initial Regulatory Flexibility Analysis has not been performed.

VI. Paperwork Reduction Act

The Paperwork Reduction Act does not apply because the changes to the FMR do not impose recordkeeping or information collection requirements, or the collection of information from offerors, contractors, or members of the public that require the approval of OMB under 44 U.S.C. 3501, et seq.

VII. Severability

GSA is proposing to add a new provision on severability at 41 CFR 102-75.13, which states that all provisions included in part 102-75 are separate and severable from one another.

If any particular term or provision in part 102-75, or the application thereof to any agency or circumstance, is determined by a court of competent jurisdiction to be invalid or unenforceable, the remaining terms or provisions, or the application of such term or provision to agencies or circumstances other than those to which it is invalid or unenforceable, will not be affected thereby, and each term and provision of this proposed rule will be valid and be enforced to the fullest extent permitted by law.

Further, any cross-references that appear throughout part 102-75 are duplicative and are intended only to make the regulations more user-friendly. Invalidation of a particular provision that is cross-referenced elsewhere will not materially alter the provision that contains the cross-reference.

In summary, removal of any particular provision from part 102-75 would not render the entire regulatory scheme unworkable. Thus, GSA considers each of the provisions in subpart A or B of part 102-75 to be separate and severable from one another. In the event of a stay or invalidation of any particular provision, it is GSA's intention that the remaining provisions will continue in effect.

List of Subjects in 41 CFR Part 102-75

Federal buildings and facilities, Government property management, Rates and fares, Surplus Government property.

Earl Pinto,
Acting Associate Administrator, Office of Government-wide Policy.

For the reasons set forth in the preamble, GSA proposes to amend 41 CFR part 102-75 as set forth below:

PART 102-75—REAL PROPERTY DISPOSAL

1. The authority citation for 41 CFR part 102-75 is revised to read as follows:

Authority: 40 U.S.C. 121(c), 521-523, 541-559.

2. Revise subparts A and B to read as follows:

Subpart A—General
Sec.
102-75.5 What definitions apply to this part?
102-75.6 What is the scope of this part?
102-75.7 When may a landholding agency other than GSA be the disposal agency for real and related personal property?
102-75.8 Are there any exceptions to when landholding agencies can serve as the disposal agency?
102-75.9 Can agencies request that GSA be the disposal agency for real property and real property interests described in § 102-75.7?
102-75.10 Why are Federal landholding agencies required to notify GSA of their real property needs?
102-75.11 Are there any exceptions to the notification policy in this subpart?
102-75.12 What basic real property policy does GSA follow and promote?
102-75.13 What portions of this part are severable?
102-75.14 [Reserved]
Real Property Disposal Services
102-75.15 If an agency is operating under authority delegated from GSA, what real property disposal services is it authorized to provide?
102-75.20 How can Federal agencies with independent disposal authority obtain disposal and other real estate related services?
102-75.25—102-75.35 [Reserved]
Subpart B—Asset Management Policy for Federal Real Property
102-75.40 What definitions apply to this subpart?
102-75.45 [Reserved]
Land Withdrawn or Reserved from the Public Domain
102-75.50 What process or steps does a landholding agency follow to relinquish withdrawn or reserved public domain land?
102-75.51 What makes land not suitable for return to the public domain?
102-75.52 If DOI determines and the Administrator concurs that the land is not suitable for return to the public domain, what are the next steps?
102-75.53 What happens to improvements on withdrawn or reserved public domain land if BLM determines the land is suitable for return to the public domain?
102-75.54 Can landholding agencies abandon, destroy, or donate improvements on withdrawn public land determined to be unsuitable for return to the public domain?
102-75.55 [Reserved]
102-75.60 Which agency is responsible for disposing of mineral interests and rights?

Subpart A—General

§ 102-75.5 What definitions apply to this part?

All the definitions in 41 CFR 102-71.20 apply to this part, in addition to the definitions listed in this section. Some definitions have been repeated in this section for ease of reference.

Landholding agency means the Federal agency that has accountability for the property involved and reports the real property on its financial statements and inventory records.

Underutilized means an entire property or portion thereof, with or without improvements, which is used only at irregular periods or intermittently by the accountable landholding agency for current program purposes of that agency, or which is used for current program purposes that can be satisfied with only a portion of the property (§ 102-75.1160; accord 45 CFR 12a.1; 24 CFR 581.1).

Unutilized means an entire property or portion thereof, with or without improvements, not occupied for current program purposes for the accountable executive agency or occupied in caretaker status only (§ 102-75.1160; accord 45 CFR 12a.1; 24 CFR 581.1).

Utilized means real property that is used for the current mission needs of the accountable landholding agency and is not defined as unutilized or underutilized.

§ 102-75.6 What is the scope of this part?

This part implements the real property disposition authorities provided by Public Law 107-217 (40 U.S.C. 101 and 501, et seq.), “Public Buildings, Property and Works.” The real property policies contained in this part apply to Federal landholding agencies (landholding agency), including GSA's Public Buildings Service (PBS), operating under, or subject to, the authorities of the Administrator of General Services. This part also applies to Federal agencies with delegated authority to dispose of real property under the “Property Act” (chapter 5 of Pub. L. 107-217), the Surplus Property Act of 1944, as amended (1944 Act), and the provisions of other applicable statutes.

§ 102-75.7 When may a landholding agency other than GSA be the disposal agency for real and related personal property?

A landholding agency may be the disposal agency for real and related personal property when—

(a) The agency has statutory authority to dispose of real and related personal property;

(b) The agency has delegated authority from GSA to dispose of real and related personal property;

(c) The agency is disposing of—

(1) Leases, licenses, permits, easements, and other similar real estate interests held by agencies in non-Government-owned real property;

(2) Government-owned improvements, including fixtures, structures, and other improvements of any kind, as long as the underlying land is not being disposed; or

(3) Standing timber, embedded gravel, sand, stone, and underground water, without the underlying land; or

(d) The agency has independent disposal authority. The agency should follow its regulations implementing such disposal authority. Where the agency's regulations are silent, then the agency can follow GSA's regulations as a best practice for the disposition of real and related personal property.

§ 102-75.8 Are there any exceptions to when landholding agencies can serve as the disposal agency?

Yes, landholding agencies may not serve as the disposal agency when—

(a) Either the landholding agency or GSA determines that the Government's best interests are served by disposing of leases, licenses, permits, easements, and similar real estate interests together with other property owned or controlled by the Government that has been or will be reported to GSA; or

(b) Government-owned machinery and equipment being used by a contractor-operator will be sold to a contractor-operator.

§ 102-75.9 Can agencies request that GSA be the disposal agency for real property and real property interests described in § 102-75.7?

Yes. If requested, GSA, at its discretion, may be the disposal agency for such real property and real property interests.

§ 102-75.10 Are Federal landholding agencies required to notify GSA of their real property needs?

Yes, 40 U.S.C. 521(1) and 524(b)(3), require Federal landholding agencies to notify GSA of their real property needs. It is important that each landholding agency notify GSA of its real property needs to determine whether the excess or surplus real property of another agency is available and would meet its need, preventing the unnecessary purchase or lease of real property. The requirements for reporting real property are provided in subsequent sections of this part.

§ 102-75.11 Are there any exceptions to the notification policy in this subpart?

Yes, a landholding agency with real estate acquisition authority is not required to notify GSA when its proposed acquisition of real property is dictated by exact geographical location, topography, engineering, or similar characteristics that limit the possibility of using another agency's available real property. Also, notification is not required if the acquisition of real property is required or directed by statute. For example, if a landholding agency needs to acquire real property for a dam site, reservoir area, or the construction of a generating plant or a substation, it is not required to notify GSA since specific land is needed, which limits the potential of other available excess real property to meet the need. However, agencies are encouraged to notify GSA and utilize its knowledge and expertise to assist in the proposed acquisition.

§ 102-75.12 What basic real property policy does GSA follow and promote?

GSA provides, in a timely, efficient, and cost-effective manner, the full range of real estate services necessary to support its and other landholding agencies' real property asset management, utilization, and disposal needs. GSA also assists landholding agencies with meeting the requirements of E.O. 13327, which includes identifying property that is utilized, underutilized, and unutilized. Through this part, GSA establishes policies that promote and improve asset management, and that facilitate the efficient and effective utilization and disposal of Federal real property.

§ 102-75.13 What portions of this part are severable?

All provisions of this part are separate and severable from one another. If any provision is stayed or determined to be invalid, it is GSA's intention that the remaining provisions will continue in effect.

§ 102-75.14 [Reserved]

Real Property Disposal Services

§ 102-75.15 If an agency is operating under authority delegated from GSA, what real property disposal services is it authorized to provide?

A landholding agency with GSA's delegated authority must follow the Property Act disposal process (exception: see subpart F of this part regarding delegations) and may provide real estate services, within its own agency, such as appraisals, and land use, environmental, and market studies. Under a delegation, landholding agencies may transfer excess real property for further use within the agency and to other landholding agencies. With respect to the disposal of surplus real property, agencies with GSA's delegated authority may assign and convey surplus real property for the various public purposes as allowed in the Property Act, and may also conduct negotiated sales, public sales, and other related disposal and post-disposal services (e.g., compliance inspections for public benefit conveyances, excess profits monitoring for negotiated sales, and monitoring of any other deed restrictions and special conditions).

§ 102-75.20 How can Federal agencies with independent disposal authority obtain disposal and other real estate related services?

Federal agencies with disposal authority separate and apart from the Property Act are encouraged to obtain utilization, disposal, and related real estate and asset management services from GSA, as allowed by both the Property Act and 31 U.S.C. 1535 (Economy Act), so that they can remain focused on their core missions. In such cases, GSA may provide disposal and other real estate services on a reimbursable basis, using an agreement or other authorizing document (e.g., Memorandum of Agreement (MOA) or Reimbursable Work Authorization (RWA)) between GSA and the landholding agency. At a minimum, the agreement or authorizing document will provide details on the authority being used, roles and responsibilities of the landholding agency and GSA, retention of proceeds, as applicable, GSA's expenses and reimbursement, and protection and maintenance of the property. Unless specifically exempted by other statutory provisions, all real property dispositions are subject to the Property Act.

§§ 102-75.25-102-75.35 [Reserved]

Subpart B—Asset Management Policy for Federal Real Property

§ 102-75.40 What definitions apply to this subpart?

All the definitions in 41 CFR 102-71.20 apply to this subpart, in addition to the definitions listed in this section.

Public domain land means land that was acquired from another sovereign and has either never left Federal ownership after initial acquisition or was acquired in exchange for other land owned by the United States that similarly had never left Federal ownership—i.e., acquired in exchange for other public domain land (see 43 CFR 3000.5).

Withdrawn public domain land means land that has been taken out of public use or access for a specific Federal mission purpose.

§ 102-75.45 [Reserved]

Land Withdrawn or Reserved From the Public Domain

§ 102-75.50 What process or steps does a landholding agency follow to relinquish withdrawn or reserved public domain land?

Before withdrawn or reserved public domain land can be returned to the public domain or disposed of, the Secretary of the Department of the Interior (DOI) must determine, and the Administrator of GSA (Administrator) must concur on whether or not the land is suitable for return to the public domain. Specifically, the landholding agency must submit a Notice of Intention to Relinquish (NOITR) (43 CFR part 2370, subpart 2372) to the appropriate Bureau of Land Management (BLM) office and send a copy to the appropriate GSA regional office.

§ 102-75.51 What makes land not suitable for return to the public domain?

Generally, the Secretary of DOI determines, and the Administrator concurs, that the land is substantially changed in character and condition by improvements or otherwise.

§ 102-75.52 If DOI determines and the Administrator concurs that the land is not suitable for return to the public domain, what are the next steps?

Landholding agencies must submit a Report of Excess Real Property (Standard Form 118), with Schedules A, B, and C, as appropriate along with a copy of DOI's response to the NOITR to the appropriate GSA regional office. Also, landholding agencies must submit DOI's report identifying whether—

(a) Any agency (other than the relinquishing agency) claims either primary, joint, or secondary jurisdiction over the lands; or

(b) The DOI's records show any encumbrances under the public land laws.

§ 102-75.53 What happens to improvements on withdrawn or reserved public domain land if BLM determines the land is suitable for return to the public domain?

The formal withdrawal order will address the disposition of improvements on land that returns to the public domain. Specifically, the withdrawal order will authorize BLM, at its discretion, to—

(a) Assume responsibility for the use and management of the improvement;

(b) Require the landholding agency to remove the improvement; or

(c) Engage GSA (or require the landholding agency) to dispose of the improvement for off-site removal use.

§ 102-75.54 Can landholding agencies abandon, destroy, or donate improvements on withdrawn public land determined to be unsuitable for return to the public domain?

Landholding agencies must report the real property as excess to GSA (see § 102-75.52) and follow the requirements in subpart E of this part on abandonment, destruction, or donation to public bodies.

§ 102-75.55 [Reserved]

§ 102-75.60 Which agency is responsible for disposing of mineral interests and rights?

GSA is generally responsible for the disposal of mineral interests and rights, whether separate from the land or with the land, for real property that the landholding agency has determined to be excess. GSA has exclusive authority for such disposal when the mineral interest and rights are located within incorporated areas (e.g., city, town, village, etc.) using its authority under the Property Act.

(a) As set out in the Federal Land and Policy Management Act of 1976, DOI, through BLM, has authority for the disposal of mineral interests and rights within public domain or withdrawn lands.

(b) BLM also has authority to manage and dispose of mineral interests and rights associated with real property acquired outside of incorporated areas where the land was acquired under authorities prior to 1920.

(1) If land and mineral interests or rights are reported to GSA and are located outside of an incorporated area, GSA may provide an opportunity to BLM to provide GSA with a recommendation on whether the mineral interests and rights should be retained by the Government.

(2) If BLM recommends that the mineral interests and rights should be retained, GSA may transfer such to BLM. If BLM determines that the Government does not need to retain the mineral interests and rights or does not respond to the notice given, GSA will dispose of such under its authority.

(c) Where BLM is given an opportunity to provide a recommendation under paragraph (b)(1) of this section, GSA will provide BLM 30 days to provide such recommendation.

(d) When determining the suitability of land for return to the public domain, BLM may make a determination with regard to any mineral interests located on such land. For land determined to be unsuitable for return to the public domain, GSA may take BLM's determination with regard to mineral interests into consideration when deciding whether to—

(1) Proceed with a disposal of such interests, with or without the fee interest in the land; or

(2) Reserve such interests. If reserved, BLM is the agency responsible for managing such reserved mineral interests.

[FR Doc. 2024-29377 Filed 12-20-24; 8:45 am]

BILLING CODE 6820-61-P